NUCLEAR REGULATORY COMMISSION

[Docket No. 030-14680]

Notice of Availability of Environmental Assessment and Finding of No Significant Impact for License Amendment for Merck & Co., Inc. in Rahway, NJ

AGENCY: Nuclear Regulatory Commission.

ACTION: Notice of Availability.

FOR FURTHER INFORMATION CONTACT: Betsy Ullrich, Commercial & R&D Branch, Division of Nuclear Materials Safety, Region I, 475 Allendale Road, King of Prussia, Pennsylvania, 19406, telephone (610) 337-5040, fax (610) 337-5269; or by e-mail: exu@nrc.gov.

SUPPLEMENTARY INFORMATION:

I. Introduction

The Nuclear Regulatory Commission (NRC) is issuing a license amendment to Merck & Co., Inc. (Merck) for Materials License No. 29-00117-06, to authorize disposal of soil contaminated with hydrogen-3 (tritium) pursuant to 10 CFR 20.2002. NRC has prepared an Environmental Assessment (EA) in support of this action in accordance with the requirements of 10 CFR Part 51. Based on the EA, the NRC has concluded that a Finding of No Significant Impact (FONSI) is appropriate. The amendment will be issued following the publication of this Notice.

II. EA Summary

The purpose of the action is to authorize the disposal of 61 cubic meters (80 cubic yards) of solid material (soil) containing 28 megabequerels (756 microcuries) total of tritium pursuant to 10 CFR 20.2002 to an industrial landfill. The licensee provided a dose analysis to justify the disposal. The licensee performed dose assessments of the disposal of this material and determined that such disposal would result in doses of much less than 0.1 millirem in a year to a member of the public.

The NRC staff has prepared an EA in support of the license amendment. The soil was excavated and surveyed prior to the licensee requesting the license amendment. The NRC staff has reviewed the information and performed dose assessments of the disposal of the soil to an industrial landfill, based on the information submitted by the licensee. Based on its review, the staff has determined that such disposal would result in doses of much less than 1 millirem in a year to members of the public. Therefore, the staff concluded that such disposal meets the requirements of 10 CFR Part 20.2002, and a Finding of No Significant Impact is appropriate.

III. Finding of No Significant Impact

The staff has prepared the EA (summarized above) in support of the license amendment to dispose of 80 cubic yards of soil contaminated with 756 microcuries of tritium. The NRC staff has evaluated the licensee's request and has concluded that the completed action complies with the criteria of 10 CFR Part 20.2002. On the basis of the EA, the NRC has concluded that the environmental impacts from the action are expected to be insignificant and has determined not to prepare an environmental impact statement for the action.

IV. Further Information

Documents related to this action, including the application for the license amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this Notice are the Environmental Assessment [ML051570224] and the Merck & Co, Inc. amendment request dated February 23, 2004 [ML040711197]. Persons who do not have access to ADAMS or who encounter problems in accessing the documents located in ADAMS, should contact the NRC PDR Reference staff by telephone at (800) 397-4209 or (301) 415-4737, or by e-mail to pdr@nrc.gov.

Documents related to operations conducted under this license not specifically referenced in this Notice may not be electronically available and/or may not be publicly available. Persons who have an interest in reviewing these documents should submit a request to NRC under the Freedom of Information Act (FOIA). Instructions for submitting a FOIA request can be found on the NRC's Web site at http://www.nrc.gov/reading-rm/foia/foia-privacy.html.

Dated at King of Prussia, Pennsylvania, this 6th day of June, 2005.
For the Nuclear Regulatory Commission.
James P. Dwyer,
Chief, Commercial and R&D Branch, Division of Nuclear Materials Safety, Region I.

[FR Doc. E5-3058 Filed 6-10-05; 8:45 am]

BILLING CODE 7590-01-P